DEPARTMENT OF DEFENSE

Defense Acquisition Regulations System

48 CFR Parts 204, 219, 225, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update references within the DFARS text.

DATES: Effective Date: July 15, 2009.

FOR FURTHER INFORMATION CONTACT: Ms. Michele Peterson, Defense Acquisition Regulations System, OUSD (AT&L) DPAP (DARS), IMD 3D139, 3062 Defense Pentagon, Washington, DC 20301-3062. Telephone 703-602-0311; facsimile 703-602-7887.

SUPPLEMENTARY INFORMATION: This final rule amends DFARS text as follows:

• 204.7202-2, 219.708, 219.1204, and 225.1101. Updates cross-references.

• 225.301-4. Adds a reference to a DoD Web site.

• 252.225-7040. Updates a reference to a DoD publication.

List of Subjects in 48 CFR Parts 204, 219, 225, and 252

Government procurement.

Michele P. Peterson,
Editor, Defense Acquisition Regulations System.

Therefore, 48 CFR Parts 204, 219, 225, and 252 are amended as follows:

1. The authority citation for 48 CFR Parts 204, 219, 225, and 252 continues to read as follows:

Authority: 41 U.S.C. 421 and 48 CFR Chapter 1.

PART 204—ADMINISTRATIVE MATTERS

2. Section 204.7202-2 is revised to read as follows:

204.7202-2 DUNS numbers.

Requirements for use of DUNS numbers are in FAR 4.605(b) and 4.607(a).

PART 219—SMALL BUSINESS PROGRAMS

219.708 [Amended]

3. Section 219.708 is amended in paragraphs (b)(2) and (c)(1) by removing “219.702(a)” and adding in its place “219.702”.

219.1204 [Amended]

4. Section 219.1204 is amended in paragraph (c), in the last sentence, by removing “219.702(a)” and adding in its place “219.702”.

PART 225—FOREIGN ACQUISITION

5. Section 225.301-4 is amended in paragraph (2) by revising the last sentence to read as follows:

225.301-4 Contract clause.

* * * * *

(2) * * * Information on the SPOT system is available at http://www.dod.mil/bta/products/spot.html and http://www.acq.osd.mil/log/PS/spot.html.

225.1101 [Amended]

6. Section 225.1101 is amended in paragraph (11)(i) introductory text by removing “paragraph (10)” and adding in its place “paragraph (11)”.

PART 252—SOLICITATION PROVISIONS AND CONTRACT CLAUSES

252.225-7040 [Amended]

7. Section 252.225-7040 is amended as follows:

a. By revising the clause date to read “(JUL 2009)”; and

b. In paragraph (n)(2) by removing “DoD Directive 2310.2, Personnel Recovery” and adding in its place “DoD Directive 3002.01E, Personnel Recovery in the Department of Defense”.

[FR Doc. E9-16663 Filed 7-14-09; 8:45 am]

BILLING CODE 5001-08-P